DEPARTMENT OF COMMERCE

National Oceanic and Atmospheric Administration

RIN 0648-XC439

Marine Mammals; File No. 17005

AGENCY: National Marine Fisheries Service (NMFS), National Oceanic and Atmospheric Administration (NOAA), Commerce.

ACTION: Notice; receipt of application.

SUMMARY: Notice is hereby given that Peter Rogers, Ph.D., Georgia Institute of Technology, Woodruff School of Mechanical Engineering, Atlanta, GA 30332, has applied in due form for a permit to conduct research on cetacean species not listed under the Endangered Species Act (ESA).

DATES: Written, telefaxed, or email comments must be received on or before February 14, 2013.

ADDRESSES: The application and related documents are available for review by selecting “Records Open for Public Comment” from the Features box on the Applications and Permits for Protected Species (APPS) home page, https://apps.nmfs.noaa.gov, and then selecting File No. 17005 from the list of available applications.

These documents are also available upon written request or by appointment in the following offices: See SUPPLEMENTARY INFORMATION.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Amy Sloan, (301) 427-8401.

SUPPLEMENTARY INFORMATION: The subject permit is requested under the authority of the Marine Mammal Protection Act of 1972, as amended (MMPA; 16 U.S.C. 1361 et seq.), the regulations governing the taking and importing of marine mammals (50 CFR part 216).

Dr. Rogers proposes to conduct scientific research on cetacean species in Atlantic and Pacific coastal areas of the contiguous United States. In cooperation with local marine mammal stranding networks, researchers would use an ultrasound-based system for non-invasively determining the low frequency elastic properties of cetacean head tissues. The ultrasound system is intended to provide parameters needed to model the response of the head to sound, and may provide diagnostic capabilities for use by marine mammal stranding responders. Up to 10 individuals each of any non-ESA-listed cetacean species would be tested annually for five years. The research also would allow researchers to: (1) Determine any short term changes in soft tissue elasticity if an animal dies during the stranding response, and (2) assess differences between intact and harvested tissues from deceased stranded animals.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Documents may be reviewed in the following locations:

Permits and Conservation Division, Office of Protected Resources, NMFS, 1315 East-West Highway, Room 13705, Silver Spring, MD 20910; phone (301) 427-8401; fax (301) 713-0376;

Northwest Region, NMFS, 7600 Sand Point Way NE., BIN C15700, Bldg. 1, Seattle, WA 98115-0700; phone (206) 526-6150; fax (206) 526-6426;

Southwest Region, NMFS, 501 West Ocean Blvd., Suite 4200, Long Beach, CA 90802-4213; phone (562) 980-4001; fax (562) 980-4018;

Northeast Region, NMFS, 55 Great Republic Drive, Gloucester, MA 01930; phone (978) 281-9328; fax (978) 281 -9394; and

Southeast Region, NMFS, 263 13th Avenue South, Saint Petersburg, FL 33701; phone (727) 824-5312; fax (727) 824-5309.

P. Michael Payne,
Chief, Permits and Conservation Division, Office of Protected Resources, National Marine Fisheries Service.

[FR Doc. 2013-00611 Filed 1-14-13; 8:45 am]

BILLING CODE 3510-22-P